CORPORATION FOR NATIONAL AND COMMUNITY SERVICE

Submission for OMB Emergency Review

AGENCY: Corporation for National and Community Service.

ACTION: Notice.

SUMMARY: The Corporation for National and Community Service (hereinafter the “Corporation”), submitted the following information collection request (ICR) to the Office of Management and Budget (OMB) for review and clearance in accordance with the Paperwork Reduction Act of 1995, (PRA 95) (44 U.S.C. Chapter 35). The Corporation requested that OMB review and approve its emergency request by July 17, 2003, for a period of six months. A copy of this ICR, with applicable supporting documentation, may be obtained by contacting the Corporation for National and Community Service, Office of Research and Policy Development, Mr. Robert Grimm, (202) 606-5000, Ext. 110 or by e-mail at RGrimm@cns.gov.

Unfortunately, since the Corporation requested OMB's approval of this emergency request by July 17, 2003, there will be not enough time for the public to provide comments through this Federal Register Notice before the approval date. Therefore, there will be no comment period for this request.

Type of Review: Emergency request.

Agency: Corporation for National and Community Service.

Title: Volunteer Management Capacity Survey.

OMB Number: None.

Agency Number: None.

Affected Public: Nonprofit organizations and congregations.

Total Respondents: 4,000.

Frequency: One time.

Average Time Per Response: Twenty-five (25) minutes.

Estimated Total Burden Hours: 1,667 hours.

Total Burden Cost (capital/startup): None.

Total Burden Cost (operating/maintenance): None.

Description: During his 2002 State of the Union address, President Bush called upon Americans to dedicate at least two years over the course of their lives to the service of others. He created the USA Freedom Corps to promote this goal and to assist Americans in answering this “Call to Service.” The Corporation oversees AmeriCorps, Senior Corps, Learn and Serve America, and other programs that give Americans formal opportunities to serve their neighbors.

While the Corporation's programs provide one important way for Americans to connect to local nonprofit organizations and congregations that can benefit from volunteer service, hundreds of thousands of charities and congregations operate outside these programs, also meet critical community needs with volunteers, and sustain the American tradition of volunteering. For the President's Call to Service to succeed, however, American nonprofits and congregations, including Corporation grantees, will need to absorb and make better use of volunteers.

The Corporation has undertaken a research study that assesses the current volunteer management capacity of America's nonprofits and congregations. With this study, we will learn the effectiveness of current volunteer management practices and how we can enhance organizations' volunteer management infrastructure and use of volunteers (quality and quantity). Since September 11, 2001 and the President's Call to Service, many Americans have expressed a renewed desire to serve their country by volunteering in their community. Now, we have an obligation to ensure that Americans have quality opportunities to serve and the Volunteer Management Capacity Survey will give us invaluable information on how to help Americans do what the President has asked them to do. Therefore, the Corporation has requested OMB's emergency review and approval by July 17, 2003, so it can provide the White House with the completed study by November, 2003.

Dated: July 10, 2003.
David Reingold,
Director, Office of Research and Policy Development.

[FR Doc. 03-18063 Filed 7-16-03; 8:45 am]

BILLING CODE 6050-$$-P